DEPARTMENT OF THE INTERIOR

Bureau of Ocean Energy Management

[OMB Control Number 1010-0106; MMAA104000]

Information Collection: Forms for Oil Spill Financial Responsibility for Offshore Facilities; Proposed Collection for OMB Review; Comment Request

ACTION: 60-day notice.

SUMMARY: To comply with the Paperwork Reduction Act of 1995 (PRA), the Bureau of Ocean Energy Management (BOEM) is inviting comments on the proposed revision of forms associated with a collection of information that we will submit to the Office of Management and Budget (OMB) for review and approval. The information collection request (ICR) concerns the forms used for paperwork requirements under 30 CFR 553, Oil Spill Financial Responsibility for Offshore Facilities.

DATES: Submit written comments by October 7, 2013.

ADDRESSES: Please send your comments on this ICR to the BOEM Information Collection Clearance Officer, Arlene Bajusz, Bureau of Ocean Energy Management, 381 Elden Street, HM-3127, Herndon, Virginia 20170 (mail); or arlene.bajusz@boem.gov (email); or 703-787-1209 (fax). Please reference ICR 1010-0106 in your comment and include your name and return address.

FOR FURTHER INFORMATION CONTACT: Arlene Bajusz, Office of Policy, Regulations, and Analysis at (703) 787-1025. The revised forms are printed at the end of this notice.

SUPPLEMENTARY INFORMATION: OMB Control Number: 1010-0106.

Title: 30 CFR 553, Oil Spill Financial Responsibility for Offshore Facilities.

Forms: BOEM-1016 through 1023 and BOEM-1025.

Abstract: On May 1, 2013, BOEM released a notice inviting public comment on the information collection renewal of requirements for BOEM's Oil Spill Financial Responsibility (OSFR) regulations under 30 CFR 553 (78 FR 25472). The BOEM uses the information collected under these regulations to verify compliance with section 1016 of the Oil Pollution Act of 1990, as amended (OPA), and to confirm that applicants can pay for cleanup and damages resulting from oil spills and other hydrocarbon discharges that originate from Covered Offshore Facilities (COFs). Since May, BOEM has proposed revising the forms used with this collection and is providing the 60-day public comment period for the revisions with this notice.

BOEM is splitting the function of some forms and revising others to clarify the responsibilities and financial obligations of responsible parties and applicants, as described in the Outer Continental Shelf Lands Act, and to better align the terminology and liability with the provisions of OPA. These revisions will better protect the Federal Government from potential disputes and litigation by clarifying that the primary relationship is between the responsible party and guarantor and that the designated applicant/operator is intended to function primarily in an administrative capacity. The revisions will also better align BOEM's process with that of the U.S. Coast Guard's National Pollution Fund Center, thereby reducing the burden on industry in complying with potentially conflicting guidance on oil spill responsibility, particularly with respect to offshore facilities that also function as vessels.

Below is a description of each affected form, as well as any change in the burden. The revised forms are also printed at the end of this notice. Until OMB approves these revisions, the current forms remain in use and can be located at http://www.boem.gov/About-BOEM/Procurement-Business-Opportunities/BOEM-OCS-Operation-Forms/BOEM-OCS-Operation-Forms.aspx.

Form BOEM-1016, Designated Applicant Information Certification. This form remains essentially the same except for updating the choices of forms and clarifying the administrative role of the designated applicant. No change in the 1-hour burden is expected.

Form BOEM-1017, Appointment of Designated Applicant. This form remains essentially the same except for changing the title, clarifying the administrative role of the designated applicant, and adding a column to record depth ranges, when applicable. No change in the 9-hour burden is expected.

Form BOEM-1018, Self-Insurance Information. The original form posed potential confusion because it served two purposes, both to provide evidence of self-insurance (for responsible parties) and as an indemnity (executed by persons other than the responsible party). Thus, the form has been split into two forms (BOEM-1018 and BOEM-1023). BOEM-1018 focuses on self-insurance only and is reworded to more closely align with the requirements of OPA, adding an agreement to update/renew expiring or terminated instruments and a signature section. No change in the 1-hour burden is expected.

Form BOEM-1019, Insurance Certificate. The language and agreements in this form have been reworded for compliance with OPA, to clarify that the insurer is responsible for OPA liabilities of the responsible parties, and to add an agreement to update/renew expiring or terminated instruments. No change in the 120-hour burden is expected.

Form BOEM-1020, Surety Bond. The language and agreements in this form have been reworded for compliance with OPA, to clarify that the Surety is responsible for OPA liabilities of the responsible parties, and to add an agreement to update/renew expiring or terminated instruments. No change in the 24-hour burden is expected.

Forms BOEM-1021, Covered Offshore Facilities, and BOEM-1022, Covered Offshore Facility Changes. These forms remain essentially the same except for rewording of the subtitles to match the other forms and adding a provision for rights-of-way. There is no change in the 1-hour burden for BOEM-1022; however, based on respondent input we are increasing the burden for BOEM-1021 from 3 to 6 hours.

Form BOEM-1023, Financial Guarantee. This new form replaces the indemnity agreement (previously part of BOEM-1018) with a provision that an affiliated firm, such as a corporate parent, may promise to satisfy any claims against the responsible parties. It also adds an agreement to update/renew expiring or terminated instruments and a signature section. The hour burden is estimated as 1.5 hours.

Form BOEM-1025, Independent Designated Applicant Information Certification. This new form allows a designated applicant, who is not also a responsible party, to continue to agree to be jointly and severally liable under OPA until BOEM promulgates regulations that will repeal this requirement. We estimate the burden hour to be 1 hour.

We will protect information from respondents considered proprietary under the Freedom of Information Act (5 U.S.C. 552) and its implementing regulations (43 CFR part 2) and under regulations at 30 CFR 550.197, “Data and information to be made available to the public or for limited inspection.” No items of a sensitive nature are being collected. Responses are mandatory.

Frequency: On occasion or annual basis.

Description of Respondents: Holders of leases, permits, and rights of use and easement in the Outer Continental Shelf and in State coastal waters and those who will appoint designated applicants to process their OSFR paperwork. Other respondents will be the designated applicants' insurance agents and brokers, bonding companies, and guarantors.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden estimates in our submission to OMB.

Public Availability of Comments: Before including your address, phone number, email address, or other personal identifying information in your comment, you should be aware that your entire comment—including your personal identifying information—may be made publicly available at any time. While you can ask us in your comment to withhold your personal identifying information from public review, we cannot guarantee that we will be able to do so.

Dated: July 31, 2013.
Deanna Meyer-Pietruszka,
Chief, Office of Policy, Regulations, and Analysis.

BILLING CODE 4310-MR-P

[FR Doc. 2013-18923 Filed 8-5-13; 8:45 am]

BILLING CODE 4310-MR-C